Title 3—

The President

Memorandum of October 21, 2004

Designation and Authorization to Perform Functions Under Section 319F-2 of the Public Health Service Act

Memorandum for the Director of the Office of Management and Budget

By the authority vested in me by the Constitution and the laws of the United States of America, including section 301 of title 3, United States Code, I hereby direct you to perform the functions vested in the President under section 319F-2(c)(6) of the Public Health Service Act, 42 U.S.C. 247d-6b(c)(6).

Any reference in this memorandum to the provision of any Act shall be deemed to include references to any hereafter-enacted provision of law that is the same or substantially the same as such provision.

You are authorized and directed to publish this memorandum in the Federal Register.

B

[FR Doc. 04-26787

Filed 12-2-04; 9:50 am]

Billing code 3195-01-P